DEPARTMENT OF COMMERCE

National Oceanic and Atmospheric Administration

RIN 0648-AY99

Taking and Importing Marine Mammals; Taking Marine Mammals Incidental to Space Vehicle and Missile Launch Operations at Kodiak Launch Complex, Alaska

AGENCY: National Marine Fisheries Service (NMFS), National Oceanic and Atmospheric Administration (NOAA), Commerce.

ACTION: Notice; receipt of application for regulations and subsequent letters of authorization; request for comments and information.

SUMMARY: NMFS has received an application from the Alaska Aerospace Corporation (AAC) for authorization to take marine mammals incidental to launching space launch vehicles, long range ballistic target missiles, and other smaller missile systems at Kodiak Launch Complex (KLC) for the period of February 2011 through February 2016. Pursuant to the Marine Mammal Protection Act (MMPA), NMFS is announcing receipt of the AAC's request for the development and implementation of regulations governing the incidental taking of marine mammals and inviting information, suggestions, and comments on the AAC's application and request.

DATES: Comments and information must be received no later than August 6, 2010

ADDRESSES: Comments on the application should be addressed to P. Michael Payne, Chief, Permits, Conservation and Education Division, Office of Protected Resources, National Marine Fisheries Service, 1315 East-West Highway, Silver Spring, MD 20910-3225. The mailbox address for providing email comments is PR1.0648-AY99 @noaa.gov. Comments sent via e-mail, including all attachments, must not exceed a 10-megabyte file size.

FOR FURTHER INFORMATION CONTACT: Jaclyn Daly or Michelle Magliocca, Office of Protected Resources, NMFS, (301) 713-2289.

SUPPLEMENTARY INFORMATION:

Availability

A copy of the AAC's application may be obtained by writing to the address specified above (see ADDRESSES), telephoning the contact listed above (see FOR FURTHER INFORMATION CONTACT), or visiting the internet at http://www.nmfs.noaa.gov/pr/permits/incidental.htm.

Background

Sections 101(a)(5)(A) and (D) of the MMPA (16 U.S.C. 1361 et seq.) direct the Secretary of Commerce (Secretary) to allow, upon request, the incidental, but not intentional taking of marine mammals by U.S. citizens who engage in a specified activity (other than commercial fishing) if certain findings are made and regulations are issued or, if the taking is limited to harassment, notice of a proposed authorization is provided to the public for review.

Authorization for incidental takings may be granted if NMFS finds that the taking will have a negligible impact on the species or stock(s), will not have an unmitigable adverse impact on the availability of the species or stock(s) for certain subsistence uses, and that the permissible methods of taking and requirements pertaining to the mitigation, monitoring and reporting of such taking are set forth. NMFS has defined “negligible impact” in 50 CFR 216.103 as ”...an impact resulting from the specified activity that cannot be reasonably expected to, and is not reasonably likely to, adversely affect the species or stock through effects on annual rates of recruitment or survival.”

The National Defense Authorization Act (NDAA; Pub. L. 108 136) removed the “small numbers” and “specified geographical region” limitations and amended the definition of “harassment” as it applies to a “military readiness activity” to read as follows (Section 3(18)(B) of the MMPA):

(i) Any act that injures or has the significant potential to injure a marine mammal or marine mammal stock in the wild [Level A Harassment]; or (ii) Any act that disturbs or is likely to disturb a marine mammal or marine mammal stock in the wild by causing disruption of natural behavioral patterns, including, but not limited to, migration, surfacing, nursing, breeding, feeding, or sheltering, to a point where such behavioral patterns are abandoned or significantly altered [Level B Harassment].

Summary of Request

On June 4, 2010, NMFS received a complete application from the AAC requesting authorization for the take of Steller sea lions (Eumetopias jubatus) and harbor seals (Phoca vitulina), incidental to space vehicle and missile launch activities from KLC for a period of 5 years. These launches are designed to support the U.S. Department of Defense training and operations and hence are considered military readiness activities. Marine mammals, specifically pinnipeds on nearby haulouts, may be exposed to launch noise. AAC is requesting the take, by harassment, of juvenile and adult Steller sea lions and all age class of harbor seals.

Specified Activities

AAC is proposing to launch small to medium space launch vehicles ranging in size from the small Castor 120 and the related Peacekeeper derived Minotaur IV and V vehicles to the medium lift Taurus II (currently under development) from the KLC. KLC can also support launch of the Minuteman II and III derived Minotaur I (a space launch vehicle) through III (which are primarily used as ballistic targets). Additional target missiles include the C-4 Trident, Quick Reaction Launch Vehicles, and tactical missiles such as the Patriot and Theater High Altitude Area Defense (THAAD). A number of smaller target and interceptor missile systems may also be flown from KLC. The AAC anticipates ability to accommodate nine launches per year.

Marine mammals, specifically pinnipeds hauled out on Ugak Rock, which lies immediately south of Narrow Cape, would be subjected to rocket launch noise. Sound monitoring previously conducted on Ugak Rock demonstrates that noise levels could reach up to 101.4 dBA for the loudest vehicle, the Castor 120. AAC is requesting the take of 10 Steller sea lions per launch and the take of 125 harbor seals per launch.

Information Solicited

Interested persons may submit information, suggestions, and comments concerning the AAC's request (see ADDRESSES). All information, suggestions, and comments related to the AAC's request and NMFS' potential development and implementation of regulations governing the incidental taking of marine mammals by the AAC near the KLC will be considered by NMFS in developing, if appropriate, regulations governing the issuance of letters of authorization.

Dated: June 29, 2010.
Helen M. Golde,
Deputy Director, Office of Protected Resources, National Marine Fisheries Service.

[FR Doc. 2010-16493 Filed 7-6-10; 8:45 am]

BILLING CODE 3510-22-S